U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on September 9, 2020 on “U.S.-China Relations in 2020: Enduring Problems and Emerging Challenges.”

DATES: The hearing is scheduled for Wednesday, September 9, 2020, time TBD.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington, DC 20001; via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION: Background: This is the seventh public hearing the Commission will hold during its 2020 report cycle. The hearing will evaluate key developments in China's economy, military capabilities, and foreign relations, during 2020. The first panel will address the Chinese Communist Party's perceptions of its strategic environment and domestic legitimacy, as well as recent changes in its approach to foreign policy. The second panel will assess China's current strengths and weaknesses in its foreign policy, military capabilities, and economy. The third panel will review the economic and security implications for the United States of China's approach to Taiwan and the South China Sea. The fourth panel will examine the implications for the United States of China's relationships with India and Iran.

The hearing will be co-chaired by Chairman Robin Cleveland and Vice Chairman Carolyn Bartholomew. Any interested party may file a written statement by September 9, 2020 by transmitting to the contact above. A portion the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: August 25, 2020.
Daniel W. Peck,
Executive Director, U.S.-China Economic and Security Review Commission.

[FR Doc. 2020-19065 Filed 8-28-20; 8:45 am]

BILLING CODE 1137-00-P